DEPARTMENT OF TRANSPORTATION

Pipeline and Hazardous Materials Safety Administration

[Docket No. PHMSA-2021-0069]

Pipeline Safety: Joint Meeting of the Gas and Liquid Pipeline Advisory Committees

AGENCY: Pipeline and Hazardous Materials Safety Administration (PHMSA); DOT.

ACTION: Notice of advisory committees meeting.

SUMMARY: This notice announces a virtual public meeting of the Technical Pipeline Safety Standards Committee also known as the Gas Pipeline Advisory Committee (GPAC), and the Technical Hazardous Liquid Pipeline Safety Standards Committee also known as the Liquid Pipeline Advisory Committee (LPAC), to discuss a variety of policy issues and topics relevant to both gas and liquid pipeline safety. In addition, the committees will discuss the notice of proposed rulemaking (NPRM) titled: “Periodic Updates of Regulatory References to Technical Standards and Miscellaneous Amendments.”

DATES: PHMSA will hold a virtual public meeting on October 20-21, 2021. The GPAC and LPAC will meet from 10:30 a.m. to 6:00 p.m. ET on October 20, 2021, to discuss policy issues and topics, and on October 21, 2021, from 10:30 a.m. to 3:00 p.m. ET to discuss the NPRM. Members of the public who wish to attend are asked to register no later than [October 15, 2021. PHMSA requests that individuals who require accommodations because of a disability notify Tewabe Asebe prior to the meeting.

ADDRESSES: The meeting will be held virtually. The agenda and any additional information, including information on how to participate in the virtual meeting on policy issues (October 20, 2021) will be published on the meeting website at https://primis.phmsa.dot.gov/meetings/MtgHome.mtg?mtg=154. The agenda and any additional information, including information on how to participate in the virtual meeting on the NPRM (October 21, 2021) will be published on the meeting website at https://primis.phmsa.dot.gov/meetings/MtgHome.mtg?mtg=155. Presentations will be available on each meeting website and on https://www.regulations.gov/, in docket number PHMSA-2021-0069 no later than 30 days following the meeting. You may submit comments, identified by Docket No. PHMSA-2021-0069, by any of the following methods:

• Web: https://www.regulations.gov. This site allows the public to enter comments on any Federal Register notice issued by any agency. Follow the online instructions for submitting comments.

• Fax: 1 (202) 493-2251.

• Mail: Docket Management Facility, U.S. Department of Transportation, 1200 New Jersey Avenue SE, West Building: Room W12-140, Washington, DC 20590-0001.

• Hand Delivery: U.S. Department of Transportation, 1200 New Jersey Avenue SE, West Building: Room W12-140, Washington, DC 20590-0001, between 9:00 a.m. and 5:00 p.m. ET Monday through Friday, except federal holidays.

• Instructions: Identify Docket No. PHMSA-2021-0069 at the beginning of your comments. If you submit your comments by mail, submit two copies. Internet users may submit comments at https://www.regulations.gov. If you would like confirmation that PHMSA received your comments, please include a self-addressed stamped postcard that is labeled “Comments on PHMSA-2021-0069.” The docket clerk will date stamp the postcard prior to returning it to you via the U.S. mail.

• Note: All comments received will be posted without edits to https://www.regulations.gov, including any personal information provided. Please see the Privacy Act heading for more information. Anyone can use the site to search all comments by the name of the submitting individual or, if the comment was submitted on behalf of an association, business, labor union, etc., the name of the signing individual. Therefore, please review the complete U.S. Department of Transportation Privacy Act Statement in the Federal Register (65 FR 19477) or the Privacy Notice at https://www.regulations.gov before submitting comments.

• Privacy Act Statement: DOT may solicit comments from the public regarding certain general notices. DOT posts these comments, without edit, including any personal information the commenter provides, to www.regulations.gov, as described in the system of records notice (DOT/ALL-14 FDMS), which can be reviewed at www.dot.gov/privacy.

• Confidential Business Information: Confidential Business Information (CBI) is commercial or financial information that is both customarily and actually treated as private by its owner. Under the Freedom of Information Act (5 U.S.C. 552), CBI is exempt from public disclosure. If your comments in response to this notice contain commercial or financial information that is customarily treated as private, that you actually treat as private, and that is relevant or responsive to this notice, it is important that you clearly designate the submitted comments as CBI. Pursuant to 49 CFR 190.343, you may ask PHMSA to provide confidential treatment to information you give to the agency by taking the following steps: (1) Mark each page of the original document submission containing CBI as “Confidential;” (2) send PHMSA a copy of the original document with the CBI deleted along with the original, unaltered document; and (3) explain why the information you are submitting is CBI. Submissions containing CBI should be sent to Tewabe Asebe, DOT, PHMSA, 1200 New Jersey Avenue SE, PHP-30, Washington, DC 20590-0001. Also, submission containing CBI can be emailed to Tewabe Asebe by encrypted email at tewabe.asebe@dot.gov. Any commentary PHMSA receives that is not specifically designated as CBI will be placed in the public docket.

• Docket: For access to the docket or to read background documents or comments, go to https://www.regulations.gov. Follow the online instructions for accessing the dockets. Alternatively, this information is available by visiting DOT at 1200 New Jersey Avenue SE, West Building: Room W12-140, Washington, DC 20590-0001, between 9:00 a.m. and 5:00 p.m. ET Monday through Friday, except federal holidays.

FOR FURTHER INFORMATION CONTACT: Tewabe Asebe, Office of Pipeline Safety, by phone at 202-366-5523 or by email at tewabe.asebe@dot.gov.

SUPPLEMENTARY INFORMATION:

I. Meeting Agenda

On October 20, 2021, the GPAC and LPAC will meet to discuss a variety of policy issues and topics relevant to both gas and liquid pipeline safety. On October 21, 2021, the GPAC and LPAC will meet to discuss the NPRM titled: “Periodic Updates of Regulatory References to Technical Standards and Miscellaneous Amendments” that PHMSA published in the Federal Register on January 15, 2021, (86 FR 3938). Comments that have been submitted on the NPRM can be found on https://regulations.gov in Docket No. PHMSA-2016-0002. The GPAC and LPAC will review the NPRM and its associated regulatory analysis. PHMSA will post additional details on the meeting website in advance of the meeting.

In the NPRM, PHMSA proposed to revise the Federal Pipeline Safety Regulations by updating over 25 consensus standards that are currently incorporated by reference. PHMSA also proposed to make non-substantive corrections to clarify regulatory language in certain provisions. The proposed editorial changes are minor and would not require pipeline operators to undertake new pipeline safety initiatives.

II. Background

The GPAC and LPAC are statutorily mandated advisory committees that provide PHMSA and the Secretary of Transportation with recommendations on proposed standards for the transportation of natural gas or hazardous liquids by pipeline. These committees were established in accordance with 49 U.S.C. 60115 and the Federal Advisory Committee Act, as amended (5 U.S.C. App. 2), to review PHMSA's regulatory initiatives and determine their technical feasibility, reasonableness, cost-effectiveness, and practicability. Each committee consists of 15 members, with membership evenly divided among federal and state governments, regulated industry, and the general public.

III. Public Participation

The meeting will be open to the public. Members of the public who wish to virtually attend must register on the meeting website and include their names and affiliations. PHMSA will provide members of the public with opportunities to make a statement during the course of this meeting. Additionally, PHMSA will record the meeting and post a record to the public docket. PHMSA is committed to providing all participants with equal access to this meeting. If you need an accommodation because of a disability, please contact Tewabe Asebe by phone at 202-366-5523 or by email at tewabe.asebe@dot.gov.

PHMSA is not always able to publish a notice in the Federal Register quickly enough to provide timely notice regarding last-minute issues that impact a previously announced advisory committee meeting. Therefore, individuals should check the meeting website or contact Tewabe Asebe regarding any possible changes.

Issued in Washington, DC, on September 28, 2021, under authority delegated in 49 CFR 1.97.
Alan K. Mayberry,
Associate Administrator for Pipeline Safety.

[FR Doc. 2021-21477 Filed 10-1-21; 8:45 am]

BILLING CODE 4910-60-P